COMMISSION ON CIVIL RIGHTS

Sunshine Act Notice

AGENCY: United States Commission on Civil Rights.

ACTION: Notice of Briefing.

DATE AND TIME: Friday, February 14, 2014; 9:30 a.m. EST.

PLACE: 1331 Pennsylvania Ave. NW., Suite 1150, Washington, DC 20425.

Briefing Agenda—9:30 a.m.-2:45 p.m.

This briefing is open to the public.

Topic: Patient Dumping.

I. Introductory Remarks by Chairman.

II. Panel I—9:30 a.m.-10:45 a.m.: Government Panel

Speakers' Remarks and Questions From Commissioners.

III. Panel II—10:45 a.m.-12:00 p.m.: Advocate/Practitioner Panel

Speakers' Remarks and Questions From Commissioners.

IV. Panel III—12:05 p.m.-1:05 p.m.: Scholar Panel

Speakers' Remarks and Questions From Commissioners.

V. Adjourn Briefing.

CONTACT PERSON FOR FURTHER INFORMATION: Lenore Ostrowsky, Acting Chief, Public Affairs Unit, (202) 376-8591.

Hearing-impaired persons who will attend the briefing and require the services of a sign language interpreter should contact Pamela Dunston at (202) 376-8105 or at signlanguage@usccr.gov at least seven business days before the scheduled date of the meeting.

Dated: February 4, 2014.
David Mussatt,
Acting Chief, RPCU.

[FR Doc. 2014-02639 Filed 2-4-14; 11:15 am]

BILLING CODE 6335-01-P